POSTAL SERVICE

39 CFR Part 20

International Mail: Republic of the Marshall Islands and Federated States of Micronesia

AGENCY: Postal Service.

ACTION: Final rule.

SUMMARY: Under an agreement negotiated by the United States government with the Republic of the Marshall Islands and the Federated States of Micronesia, mail destined to those two countries will now use the international rate schedules. This final rule amends the International Mail Manual (IMM) to include the Republic of the Marshall Islands and the Federated States of Micronesia in all international products and services, and add them to the individual country listings.

EFFECTIVE DATE: 12:01 a.m., Sunday, January 8, 2006.

FOR FURTHER INFORMATION CONTACT: Obataiye B. Akinwole at 202-268-7262, or Thomas P. Philson at 202-268-7355.

SUPPLEMENTARY INFORMATION: On September 15, 2005, the Postal Service ™ published in the Federal Register (70 FR 54510) a notice of proposed rulemaking to adopt international rate schedules for the Republic of the Marshall Islands and the Federated States of Micronesia. This change from charging domestic rates for mail to these countries is based on an agreement negotiated between the United States and the two former United States Trust Territories.

We requested comments on our proposal by October 17, 2005, and received two responses: one from a private individual, and one from the Republic of the Marshall Islands.

The private individual asked why the transitioned rate for airmail letter-post is less than the nontransitioned rate for aerogrammes. He envisions situations where customers might purchase aerogrammes at the full rate and alter them into airmail letter-post to secure the lower price. His solution is to print another aerogramme at the letter-post rate. He also asked if there are similar plans to change to international rates for the Republic of Palau and if Mailing Standards of the United States Postal Service, Domestic Mail Manual (DMM) and the International Mail Manual (IMM) will be amended to cover the transfer of the Republic of the Marshall Islands and the Federated States of Micronesia to the international rate schedules. Finally, he expressed concern that certain special services are not initially available for the two countries.

First, no agreement has been negotiated with the Republic of Palau, and discussion of an agreement is outside the scope of this rule. We will revise the DMM to remove references to the Republic of the Marshall Islands and the Federated States of Micronesia and amend the IMM to add country pages for these two listings.

As for the possibility that mailers may alter aerogrammes to receive the lower rate, we agree that this possibility exists. However, due to the relatively low volume of aerogrammes worldwide and the relatively low potential cost savings on each altered aerogramme, we do not believe this situation will be common or will result in any serious revenue loss. In fact, the letter-post rate to Canada and Mexico is currently below the aerogramme rate, and this rate relationship has not caused the problem noted by the private individual. In addition, printing and stocking two aerogrammes with different postage rates would be costly. We note that enclosures are not permitted in aerogrammes. We have been advised by the private individual that mailers may try to send aerogrammes with enclosures, and we will monitor the situation and take action if necessary.

Under the conditions of the agreement between the United States and the governments of the Republic of the Marshall Islands and the Federated States of Micronesia, certain special services will be discontinued, including money orders, Registered Mail ™ service, collect on delivery (COD), and recorded delivery. These special services may be offered in the future but would require a negotiated agreement. We note that there are other countries where international special services are not available because there are no agreements with those postal administrations to allow for those services.

The comments from the Republic of the Marshall Islands centered on the timing of the implementation of the agreement and concerns about possible burdens and adverse effects that may be caused by the implementation. The comments mainly reflect previous arguments against adopting international rates. During the negotiation of the agreement, we reached a compromise that mail going to the Republic of the Marshall Islands would not be subject to international rates and conditions until 2006 and the change would be phased in over a period of at least five years. The rates that we adopt comply with that agreement.

For all international services with domestic equivalents, rates will be phased in using the difference between the domestic rates and the international rates. These services include Express Mail®, Air Letters, Postcards, Publishers' Periodicals, Air Parcel Post, Economy Parcel Post, and Books and Sheet Music.

For international services without domestic equivalents, we derived phased rates by selecting a lower rate country group. After the phasing period, the Republic of the Marshall Islands and the Federated States of Micronesia will be included in country group 5 for Economy Letter Post, Airmail M-Bags, and Economy M-Bags and country group 7 for International Priority Airmail (IPA). To phase in these rates over at least 5 years, the Republic of the Marshall Islands and the Federated States of Micronesia have been assigned to country group 3 for those services during the first phase. Aerogramme service does not have a domestic equivalent; however, there is only one worldwide rate available.

Initially the following three international services will not be offered for mail destined to the Republic of the Marshall Islands and the Federated States of Micronesia: Global Express Guaranteed® (GXG ™), Global Priority Mail® (GPM), and International Surface Air Lift (ISAL). These services require special transportation arrangements and may be offered in the future.

After reviewing and considering the comments, we adopt the following changes to the International Mail Manual (IMM), incorporated by reference in the Code of Federal Regulations. See 39 CFR 20.1.

List of Subjects in 39 CFR Part 20

Foreign relations, International postal services.

For the reasons discussed above, the Postal Service hereby adopts the following amendments to the International Mail Manual which is incorporated by reference in the Code of Federal Regulations (see 39 CFR part 20).

PART 20—[AMENDED]

1. The authority citation for 39 CFR part 20 continues to read as follows:

Authority: 5 U.S.C. 552(a); 39 U.S.C. 401, 404, 407, 408.

2. Amend the International Mail Manual (IMM) as follows.

2 Conditions for Mailing

210 Global Express Guaranteed

* * * * *

213 Service Areas

* * * * *

213.2 Destinating Countries and Rate Groups

* * * * *

[Revise the Destinating Countries and Rate Groups table by adding “Marshall Islands, Republic of” and “Micronesia, Federated States of” as follows:]

Country | Document service rate group | Non-document service rate group
* * * * * * *
Marshall Islands, Republic of | No Service | No Service.
* * * * * * *
Micronesia, Federated States of | No Service | No Service.
* * * * * * *

280 Parcel Post

* * * * *

283 Weight and Size Limits

* * * * *

283.2 Size Limits

* * * * *

283.23 Exceptional Size Limits

* * * * *

[Revise item b by adding the Republic of the Marshall Islands and the Federated States of Micronesia to read as follows:]

* * * * *

b. Maximum length: 60 inches.

Maximum length and girth combined: 108 inches.

Azerbaijan

Great Britain and Northern Ireland

Japan

Macao

Marshall Islands, Republic of

Micronesia, Federated States of

* * * * *

290 Commercial Services

* * * * *

292 International Priority Airmail Service

* * * * *

292.4 Preparation Requirements for Individual Items

* * * * *

292.44 Sortation Requirements for IPA

* * * * *

292.442 Presorted Mail

* * * * *

Exhibit 292.442 Foreign Exchange Office and Country Rate Groups

[Revise the Foreign Exchange Office and Country Rate Groups table by adding “Marshall Islands, Republic of” and “Micronesia, Federated States of” as follows:]

Rate group | Country | 3-Letter exchange office code | Exchange office
* * * * * * *
3 | Marshall Islands, Republic of | MAJ EBE | MAJURO. EBEYE.
* * * * * * *
3 | Micronesia, Federated States of | PNI KSA TKK | POHNPEI. KOSRAE. TRUK.
* * * * * * *

294 Publishers' Periodicals

* * * * *

294.4 Makeup Requirements for Publishers' Periodicals

* * * * *

294.42 Sacking and Labeling

* * * * *

Exhibit 294.42 Publishers' Periodicals—All Countries (Except Canada) Labeling, Routing, and Rate Group Information

[Revise the Publishers' Periodicals labeling, routing, and rate group information table by adding “Marshall Islands, Republic of” and “Micronesia, Federated States of” as follows:]

Destination exchange office code | Country | Routing code | Observations | Publishers' periodical rate group
MAJ | Marshall Islands, Republic of | 945 |  | 6
* * * * * * *
PNI | Micronesia, Federated States of | 945 |  | 6
* * * * * * *

* * * * *

World Map

[Insert the Republic of the Marshall Islands and the Federated States of Micronesia at map reference M5.]

* * * * *

World Map Index

[Add references for the Republic of the Marshall Islands and the Federated States of Micronesia to the world map index in alphabetical order as follows:]

* * * * *
Marshall Islands, Republic of | M5
* * * * *
Micronesia, Federated States of | M5
* * * * *

Index of Countries and Localities

[Revise the references for the Republic of the Marshall Islands and the Federated States of Micronesia by removing the note “See DMM 608” and adding the appropriate IMM page number.]

* * * * *

Individual Country Listings

* * * * *

[Add an individual country listing for the Republic of the Marshall Islands.]

Country Conditions for Mailing—Marshall Islands, Republic of

Prohibitions (130)

No list furnished.

Restrictions

No list furnished.

Observations

No list furnished.

Customs Forms Required (123)

Letter-post: PS Form 2976 or 2976-A (see 123.61).

Parcel Post: PS Form 2976-A inside 2976-E (envelope).

Size Limits

Letter-post: See 243.2.

Parcel Post: Maximum length: 60 inches.

Maximum length and girth combined: 108 inches.

Postal/Postcards (250) $0.34.

Aerogrammes (250) $0.75 Enclosures NOT permitted.

Airmail Letter-Post Rates
Weight not over (ozs.) | Letter-post rate
1 | $0.48
2 | 0.85
3 | 1.20
4 | 1.55
5 | 1.90
6 | 2.25
7 | 2.60
8 | 2.95
12 | 4.25
16 | 5.35
20 | 6.45
24 | 7.55
28 | 8.65
32 | 9.75
36 | 10.90
40 | 12.00
44 | 13.15
48 | 14.25
52 | 15.40
56 | 16.55
60 | 17.65
64 | 18.80
Weight Limit: 64 ounces (4 lbs.)

Airmail Parcel Post Rates
Weight not over (lbs.) | Parcel post rate | Weight not over (lbs.) | Parcel post rate
1 | $5.90 | 36 | $50.30
2 | 6.75 | 37 | 51.55
3 | 8.20 | 38 | 52.85
4 | 9.60 | 39 | 54.05
5 | 11.00 | 40 | 55.25
6 | 12.20 | 41 | 56.50
7 | 13.40 | 42 | 57.70
8 | 14.75 | 43 | 58.95
9 | 16.05 | 44 | 60.15
10 | 17.25 | 45 | 61.40
11 | 18.55 | 46 | 62.60
12 | 19.80 | 47 | 63.85
13 | 21.10 | 48 | 65.05
14 | 22.35 | 49 | 66.25
15 | 23.60 | 50 | 67.45
16 | 24.90 | 51 | 68.70
17 | 26.15 | 52 | 69.90
18 | 27.45 | 53 | 71.15
19 | 28.70 | 54 | 72.35
20 | 30.00 | 55 | 73.60
21 | 31.20 | 56 | 74.80
22 | 32.50 | 57 | 76.05
23 | 33.80 | 58 | 77.25
24 | 35.05 | 59 | 78.50
25 | 36.35 | 60 | 79.70
26 | 37.55 | 61 | 80.95
27 | 38.85 | 62 | 82.10
28 | 40.15 | 63 | 83.40
29 | 41.40 | 64 | 84.55
30 | 42.70 | 65 | 85.85
31 | 43.90 | 66 | 87.00
32 | 45.20 | 67 | 88.25
33 | 46.50 | 68 | 89.45
34 | 47.75 | 69 | 90.70
35 | 49.00 | 70 | 91.95
Weight Limit: 70 lbs.

Airmail Direct Sack to One Addressee—M-Bags (260)
Weight Not Over 11 lbs. | $29.15
Each additional pound or fraction of a pound | 2.65
Weight Limit: 66 pounds

Global Priority Mail (GPM) (230) NOT Available

Economy Mail Letter-Post Rates
Weight not over (ozs.) | Letter-post rate
16 | $4.10
20 | 4.85
24 | 5.55
28 | 6.20
32 | 6.85
36 | 7.50
40 | 8.15
44 | 8.80
48 | 9.45
52 | 10.10
56 | 10.75
60 | 11.40
64 | 12.05
Weight Limit: 64 ounces (4 lbs.)

Economy Mail Parcel Post Rates
Weight not over (lbs.) | Parcel post rate | Weight not over (lbs.) | Parcel post rate
5 | $9.35 | 38 | $23.40
6 | 9.85 | 39 | 23.70
7 | 10.40 | 40 | 24.10
8 | 10.85 | 41 | 24.45
9 | 11.35 | 42 | 24.80
10 | 12.30 | 43 | 25.15
11 | 12.80 | 44 | 25.45
12 | 13.20 | 45 | 25.80
13 | 13.65 | 46 | 26.15
14 | 14.10 | 47 | 26.50
15 | 14.55 | 48 | 26.85
16 | 15.00 | 49 | 27.20
17 | 15.40 | 50 | 27.50
18 | 15.80 | 51 | 27.85
19 | 16.20 | 52 | 28.20
20 | 16.60 | 53 | 28.55
21 | 17.05 | 54 | 28.90
22 | 17.40 | 55 | 29.20
23 | 17.85 | 56 | 29.55
24 | 18.30 | 57 | 29.90
25 | 18.70 | 58 | 30.20
26 | 19.10 | 59 | 30.55
27 | 19.45 | 60 | 30.90
28 | 19.85 | 61 | 31.25
29 | 20.20 | 62 | 31.55
30 | 20.55 | 63 | 31.90
31 | 20.95 | 64 | 32.20
32 | 21.30 | 65 | 32.55
33 | 21.65 | 66 | 32.85
34 | 22.05 | 67 | 33.20
35 | 22.40 | 68 | 33.50
36 | 22.65 | 69 | 33.85
37 | 23.00 | 70 | 34.20
Weight Limit: 70 lbs.

Economy Mail Direct Sack to One Addressee—M-Bags (260)
Regular:
Weight Not Over 11 lbs. | $17.05
Each additional pound or fraction of a pound | 1.55
Books and Sheet Music:
Weight Not Over 11 lbs. | 10.45
Each additional pound or fraction of a pound | 0.95
Weight Limit: 66 lbs.

Economy Mail Books and Sheet Music Rates (295)
Weight not over (ozs.) | Rate
16 | $1.80
20 | 2.25
24 | 2.35
28 | 2.50
32 | 2.60
36 | 3.05
40 | 3.15
44 | 3.25
48 | 3.30
52 | 3.75
56 | 3.85
60 | 3.95
64 | 4.05
Note: This is a bulk mail service that is subject to a minimum entry requirement of 200 pieces or 50 pounds of qualifying contents. See 295.
Weight Limit: 64 ounces (4 lbs.)

Matter for the Blind (270)

Free when sent as Economy Mail. Weight limit: 15 lbs.

Economy Mail Publishers' Periodicals Rates (294)
Weight not over (ozs.) | Rate
1 | $0.60
2 | 0.63
3 | 0.66
4 | 0.69
5 | 0.72
6 | 0.75
7 | 0.78
8 | 0.81
12 | 0.90
16 | 0.99
20 | 1.25
24 | 1.34
28 | 1.44
32 | 1.53
36 | 1.78
40 | 1.88
44 | 1.97
48 | 2.06
52 | 2.32
56 | 2.41
60 | 2.50
64 | 2.60
$0.25 per pound discount for drop shipments tendered at the New Jersey International and Bulk Mail Center.
Weight Limit: 64 ounces (4 lbs.)

Special Services

Certificate of Mailing—See 313 for fees

COD and Certified—NOT for International Mail

Insurance (320)—NOT Available

International Business Reply Service (373)—NOT Available

International Money Order (371)—NOT Available

International Reply Coupons (372)—NOT Available

Recorded Delivery (360)—NOT Available

Registered Mail (330)—NOT Available

Restricted Delivery (350)—NOT Available

Return Receipt (340)—NOT Available

Global Express Guaranteed (210)—NOT Available

Global Express Mail (EMS) (220)
Weight not over (lbs.) | Rate | Weight not over (lbs.) | Rate
0.5 | $15.00 | 36 | $99.70
1 | 19.35 | 37 | 102.00
2 | 20.10 | 38 | 104.40
3 | 23.65 | 39 | 106.75
4 | 27.15 | 40 | 109.15
5 | 30.60 | 41 | 111.55
6 | 34.10 | 42 | 114.00
7 | 37.55 | 43 | 116.30
8 | 39.55 | 44 | 118.70
9 | 41.65 | 45 | 120.90
10 | 43.60 | 46 | 122.95
11 | 45.95 | 47 | 125.20
12 | 49.05 | 48 | 127.35
13 | 51.55 | 49 | 129.40
14 | 53.30 | 50 | 131.55
15 | 55.30 | 51 | 133.75
16 | 57.50 | 52 | 135.85
17 | 59.65 | 53 | 138.05
18 | 61.75 | 54 | 140.15
19 | 63.80 | 55 | 142.30
20 | 65.95 | 56 | 144.50
21 | 68.05 | 57 | 146.60
22 | 70.15 | 58 | 148.80
23 | 72.30 | 59 | 151.00
24 | 74.35 | 60 | 153.35
25 | 76.45 | 61 | 155.85
26 | 78.60 | 62 | 158.20
27 | 80.65 | 63 | 160.55
28 | 82.80 | 64 | 163.05
29 | 84.90 | 65 | 165.40
30 | 87.00 | 66 | 167.90
31 | 89.15 | 67 | 170.30
32 | 91.30 | 68 | 172.90
33 | 93.30 | 69 | 175.40
34 | 95.50 | 70 | 177.90
35 | 97.75 |
Weight Limit: 70lbs.

Insurance (221.3)—NOT Available

Size Limits (223.2)

Maximum length: 36 inches.

Maximum length and girth combined: 79 inches.

Return Receipt Service (221.4): NOT Available.

Reciprocal Service Name: There is no reciprocal service.

Country Code: MH.

Areas Served: All.

* * * * *

[Add an individual country listing for the Federated States of Micronesia to read as follows:]

Country Conditions for Mailing—Micronesia, Federated States of

Prohibitions (130)

No list furnished.

Restrictions

No list furnished.

Observations

No list furnished.

Customs Forms Required (123)

Letter-post: PS Form 2976 or 2976-A (see 123.61).

Parcel Post: PS Form 2976-A inside 2976-E (envelope).

Size Limits

Letter-post: See 243.2.

Parcel Post: Maximum length: 60 inches.

Maximum length and girth combined: 108 inches.

Postal/Postcards (250) $0.34.

Aerogrammes (250) $0.75 Enclosures NOT permitted.

Airmail Letter-Post Rates
Weight not over (ozs.) | Letter-post rate
1 | $0.48
2 | 0.85
3 | 1.20
4 | 1.55
5 | 1.90
6 | 2.25
7 | 2.60
8 | 2.95
12 | 4.25
16 | 5.35
20 | 6.45
24 | 7.55
28 | 8.65
32 | 9.75
36 | 10.90
40 | 12.00
44 | 13.15
48 | 14.25
52 | 15.40
56 | 16.55
60 | 17.65
64 | 18.80
Weight Limit: 64 ounces (4 lbs.)

Airmail Parcel Post Rates
Weight not over (lbs.) | Parcel post rate | Weight not over (lbs.) | Parcel post rate
1 | $5.90 | 36 | $50.30
2 | 6.75 | 37 | 51.55
3 | 8.20 | 38 | 52.85
4 | 9.60 | 39 | 54.05
5 | 11.00 | 40 | 55.25
6 | 12.20 | 41 | 56.50
7 | 13.40 | 42 | 57.70
8 | 14.75 | 43 | 58.95
9 | 16.05 | 44 | 60.15
10 | 17.25 | 45 | 61.40
11 | 18.55 | 46 | 62.60
12 | 19.80 | 47 | 63.85
13 | 21.10 | 48 | 65.05
14 | 22.35 | 49 | 66.25
15 | 23.60 | 50 | 67.45
16 | 24.90 | 51 | 68.70
17 | 26.15 | 52 | 69.90
18 | 27.45 | 53 | 71.15
19 | 28.70 | 54 | 72.35
20 | 30.00 | 55 | 73.60
21 | 31.20 | 56 | 74.80
22 | 32.50 | 57 | 76.05
23 | 33.80 | 58 | 77.25
24 | 35.05 | 59 | 78.50
25 | 36.35 | 60 | 79.70
26 | 37.55 | 61 | 80.95
27 | 38.85 | 62 | 82.10
28 | 40.15 | 63 | 83.40
29 | 41.40 | 64 | 84.55
30 | 42.70 | 65 | 85.85
31 | 43.90 | 66 | 87.00
32 | 45.20 | 67 | 88.25
33 | 46.50 | 68 | 89.45
34 | 47.75 | 69 | 90.70
35 | 49.00 | 70 | 91.95
Weight Limit: 70 lbs.

Airmail Direct Sack to One Addressee—M-Bags (260)
Weight Not Over 11 lbs. | $29.15
Each additional pound or fraction of a pound | 2.65
Weight Limit: 66 pounds

Global Priority Mail (GPM) (230) NOT Available.

Economy Mail Letter-Post Rates
Weight not over (ozs.) | Letter-post rate
16 | $4.10
20 | 4.85
24 | 5.55
28 | 6.20
32 | 6.85
36 | 7.50
40 | 8.15
44 | 8.80
48 | 9.45
52 | 10.10
56 | 10.75
60 | 11.40
64 | 12.05
Weight Limit: 64 ounces (4 lbs.)

Economy Mail Parcel Post Rates
Weight not over (lbs.) | Parcel post rate | Weight not over (lbs.) | Parcel post rate
5 | $9.35 | 38 | $23.40
6 | 9.85 | 39 | 23.70
7 | 10.40 | 40 | 24.10
8 | 10.85 | 41 | 24.45
9 | 11.35 | 42 | 24.80
10 | 12.30 | 43 | 25.15
11 | 12.80 | 44 | 25.45
12 | 13.20 | 45 | 25.80
13 | 13.65 | 46 | 26.15
14 | 14.10 | 47 | 26.50
15 | 14.55 | 48 | 26.85
16 | 15.00 | 49 | 27.20
17 | 15.40 | 50 | 27.50
18 | 15.80 | 51 | 27.85
19 | 16.20 | 52 | 28.20
20 | 16.60 | 53 | 28.55
21 | 17.05 | 54 | 28.90
22 | 17.40 | 55 | 29.20
23 | 17.85 | 56 | 29.55
24 | 18.30 | 57 | 29.90
25 | 18.70 | 58 | 30.20
26 | 19.10 | 59 | 30.55
27 | 19.45 | 60 | 30.90
28 | 19.85 | 61 | 31.25
29 | 20.20 | 62 | 31.55
30 | 20.55 | 63 | 31.90
31 | 20.95 | 64 | 32.20
32 | 21.30 | 65 | 32.55
33 | 21.65 | 66 | 32.85
34 | 22.05 | 67 | 33.20
35 | 22.40 | 68 | 33.50
36 | 22.65 | 69 | 33.85
37 | 23.00 | 70 | 34.20
Weight Limit: 70 lbs.

Economy Mail Direct Sack to One Addressee—M-Bags (260)
Regular:
Weight Not Over 11 lbs. | $17.05
Each additional pound or fraction of a pound | 1.55
Books and Sheet Music:
Weight Not Over 11 lbs. | 10.45
Each additional pound or fraction of a pound | 0.95
Weight Limit: 66 lbs.

Economy Mail Books and Sheet Music Rates (295)
Weight not over (ozs.) | Rate
16 | $1.80
20 | 2.25
24 | 2.35
28 | 2.50
32 | 2.60
36 | 3.05
40 | 3.15
44 | 3.25
48 | 3.30
52 | 3.75
56 | 3.85
60 | 3.95
64 | 4.05
Note: This is a bulk mail service that is subject to a minimum entry requirement of 200 pieces or 50 pounds of qualifying contents. See 295.
Weight Limit: 64 ounces (4 lbs.)

Matter for the Blind (270)

Free when sent as Economy Mail. Weight limit: 15 lbs.

Economy Mail Publishers' Periodicals Rates (294)
Weight not over (ozs.) | Rate
1 | $0.60
2 | 0.63
3 | 0.66
4 | 0.69
5 | 0.72
6 | 0.75
7 | 0.78
8 | 0.81
12 | 0.90
16 | 0.99
20 | 1.25
24 | 1.34
28 | 1.44
32 | 1.53
36 | 1.78
40 | 1.88
44 | 1.97
48 | 2.06
52 | 2.32
56 | 2.41
60 | 2.50
64 | 2.60
$0.25 per pound discount for drop shipments tendered at the New Jersey International and Bulk Mail Center.
Weight Limit: 64 ounces (4 lbs.)

Special Services

Certificate of Mailing—See 313 for fees

COD and Certified—NOT for International Mail

Insurance (320)—NOT Available

International Business Reply Service (373)—NOT Available

International Money Order (371)—NOT Available

International Reply Coupons (372)—NOT Available

Recorded Delivery (360)—NOT Available

Registered Mail (330)—NOT Available

Restricted Delivery (350)—NOT Available

Return Receipt (340)—NOT Available

Global Express Guaranteed (210)—NOT Available

Global Express Mail (EMS) (220)
Weight not over (lbs.) | Rate | Weight not over (lbs.) | Rate
0.5 | $15.00 | 36 | $99.70
1 | 19.35 | 37 | 102.00
2 | 20.10 | 38 | 104.40
3 | 23.65 | 39 | 106.75
4 | 27.15 | 40 | 109.15
5 | 30.60 | 41 | 111.55
6 | 34.10 | 42 | 114.00
7 | 37.55 | 43 | 116.30
8 | 39.55 | 44 | 118.70
9 | 41.65 | 45 | 120.90
10 | 43.60 | 46 | 122.95
11 | 45.95 | 47 | 125.20
12 | 49.05 | 48 | 127.35
13 | 51.55 | 49 | 129.40
14 | 53.30 | 50 | 131.55
15 | 55.30 | 51 | 133.75
16 | 57.50 | 52 | 135.85
17 | 59.65 | 53 | 138.05
18 | 61.75 | 54 | 140.15
19 | 63.80 | 55 | 142.30
20 | 65.95 | 56 | 144.50
21 | 68.05 | 57 | 146.60
22 | 70.15 | 58 | 148.80
23 | 72.30 | 59 | 151.00
24 | 74.35 | 60 | 153.35
25 | 76.45 | 61 | 155.85
26 | 78.60 | 62 | 158.20
27 | 80.65 | 63 | 160.55
28 | 82.80 | 64 | 163.05
29 | 84.90 | 65 | 165.40
30 | 87.00 | 66 | 167.90
31 | 89.15 | 67 | 170.30
32 | 91.30 | 68 | 172.90
33 | 93.30 | 69 | 175.40
34 | 95.50 | 70 | 177.90
Weight Limit: 70 lbs.

Insurance (221.3)—NOT Available.

Size Limits (223.2).

Maximum length: 36 inches.

Maximum length and girth combined: 79 inches.

Return Receipt Service (221.4): Not Available.

Reciprocal Service Name: There is no reciprocal service.

Country Code: FM.

Areas Served: All.

* * * * *

Neva R. Watson,
Attorney, Legislative.

[FR Doc. 05-23008 Filed 11-22-05; 8:45 am]

BILLING CODE 7710-12-P